DEPARTMENT OF TRANSPORTATION

Coast Guard

33 CFR Part 165

[CGD01-01-077]

RIN 2115-AA97

Safety Zone; Long Island Sound, Thames River, Great South Bay, Shinnecock Bay, Connecticut River and the Atlantic Ocean Seventeen Annual Fireworks Displays

AGENCY: Coast Guard, DOT.

ACTION: Final rule.

SUMMARY: The Coast Guard is establishing seventeen permanent safety zones for fireworks displays located on or in Long Island Sound, the Atlantic Ocean, the Thames River, Great South Bay, Shinnecock Bay and the Connecticut River. This action is necessary to provide for the safety of life on navigable waters during the events. This action establishes permanent exclusion areas that are only active prior to the start of the fireworks display until shortly after the fireworks display is completed, and it is intended to restrict vessel traffic in a portion of the affected waterways.

DATES: This rule is effective June 3, 2002.

ADDRESSES: Comments and material received from the public, as well as documents indicated in this preamble as being available in the docket, are part docket (CGD01-01-077) and are available for inspection or copying at U.S. Coast Guard Group/Marine Safety Office (MSO) Long Island Sound, 120 Woodward Ave, New Haven, Connecticut 06512, between 7:30 a.m. and 4 p.m., Monday through Friday, except Federal holidays.

FOR FURTHER INFORMATION CONTACT: Petty Officer R. L. Peebles, Marine Events Coordinator, Coast Guard Group/MSO Long Island Sound at (203) 468-4408.

SUPPLEMENTARY INFORMATION:

Regulatory Information

On August 7, 2001, we published a notice of proposed rulemaking (NPRM) entitled “Safety Zone; Long Island Sound, Thames River, Great South Bay, Shinnecock Bay, Connecticut River and the Atlantic Ocean Annual Fireworks Displays” in the Federal Register (66 FR 41170). We received no letters commenting on the proposed rule. No public hearing was requested, and none was held.

Background and Purpose

The Coast Guard is establishing seventeen permanent safety zones that will be activated for fireworks displays that normally occur on an annual basis and are normally held in one of the following seventeen locations: On the Connecticut River off of Old Saybrook, CT; on the Connecticut River off Hartford, CT; in Greenwich Harbor on Long Island Sound, CT; on the Thames River off of New London, CT; on the Thames River off of Norwich, CT; in Long Island Sound off Madison, CT; in Long Island Sound off Rowayton, CT; in New Haven Harbor on Long Island Sound, CT; in Long Island Sound off Groton Long Point in Groton, CT; in Cold Springs Harbor on Long Island Sound, NY; in Shinnecock Bay off Southampton, NY; in Great South Bay off Davis Park, NY; in Great South Bay off Patchogue, NY; in Great South Bay off Cherry Cove, NY; and in the Atlantic Ocean off Sagaponack, NY. By establishing permanent safety zones, the Coast Guard will eliminate the need to establish temporary rules annually.

Connecticut River

There are three safety zones for the Connecticut River. The safety zone for the annual Arnold L. Chase fireworks display encompasses all waters of the Connecticut River within a 600-foot radius of the fireworks barge in approximate position 41°15′56″ N, 072°21′49″ W, located off Fenwick Pier, Old Saybrook, CT. The safety zone for the annual Saybrook Summer Pops fireworks display encompasses all waters of Connecticut River within a 600-foot radius of the fireworks barge located in approximate position 41°17′35″ N, 072°21′20″ W, located north of the dock on Saybrook Point, Old Saybrook, CT. The safety zone for the annual Riverfest Fireworks display encompasses all waters of the Connecticut River within a 600-foot radius of the fireworks barge located in approximate position 41°45′34″ N, 072°39′37″ W, located in Hartford, CT.

Thames River

There are two safety zones for the Thames River. The zone for the annual Mashantucket Pequot fireworks display encompasses all waters of the Thames River within a 1200-foot radius of the fireworks barges located in approximate positions: barge one, 41°21′01″ N, 072°05′25″ W, barge two, 41°20′58″ N, 072°05′23″ W, barge three, 41°20′53″ N, 072°05′21″ W, located off New London, CT. The safety zone for the annual Harbor Day Fireworks display encompasses all waters of the Thames River within a 600-foot radius of the fireworks barge in approximate position 41°31′14″ N, 072°04′44″ W, located off the marina at the American Warf, Norwich, CT.

Long Island Sound

There are seven safety zones for Long Island Sound. The safety zone for the annual Indian Harbor Yacht Club fireworks display encompasses all waters of Captains Harbor within an 800-foot radius of the fireworks barge located in approximate position 41°00′35″ N, 073°37′05″ W, located off of Greenwich, CT. The safety zone for the annual Madison Cultural Arts fireworks display encompasses all waters of Long Island Sound off the city of Madison within an 800-foot radius of the fireworks barge in approximate position 41°16′10″ N, 072°36′30″ W. The safety zone for the annual City of Rowayton fireworks display encompasses all waters of Sheffield Channel on Long Island Sound off Ballast Reef, CT, within a 1000-foot radius of the fireworks barge in approximate position 41°03′11″ N, 073°26′41″ W. The safety zone for the annual City of West Haven fireworks display encompasses all waters of New Haven Harbor in Long Island Sound off Bradley Point within a 1200-foot radius of the fireworks barge located in approximate position 41°15′07″ N, 072°57′26″ W. The safety zone for the annual New Haven Festival fireworks display encompasses all waters of New Haven Harbor in Long Island Sound within a 1200-foot radius of the fireworks barge located in approximate position 40°17′31″ N, 072°54′48″ W.

The safety zone for the annual Groton Long Point Yacht Club fireworks display encompasses all waters of Long Island Sound off of Groton Long Point in Groton, CT, within a 600-foot radius of the fireworks barge located in approximate position 41°18′05″ N, 072°02′08″ W. The safety zone for the annual Yampol Family fireworks display encompasses all waters of Long Island Sound off Cove Neck, NY, within a 1200-foot radius of the fireworks barge located in approximate position 40°53′00″ N, 073°29′13″ W.

Shinnecock Bay (Off Southampton, NY)

The safety zone for the annual Southampton Fresh Air Home fireworks display encompasses all waters of Shinnecock Bay off Southampton, NY within a 600-foot radius of the fireworks barge located in approximate position 40°51′48″ N, 072°28′30″ W.

Great South Bay (Off Long Island, NY)

The safety zone for the annual T.E.L. Enterprises fireworks display encompasses all waters of Great South Bay off Davis Park, NY within a 600-foot radius of the fireworks barge located in approximate position 40°41′17″ N, 073°00′20″ W. The safety zone for the annual Patchogue Chamber of Commerce fireworks display encompasses all waters of Great South Bay off Patchogue, NY within an 800-foot radius of the fireworks barge located in approximate position 40°44′38″ N, 073°00′33″ W.

The safety zone for the annual Fire Island Tourist Bureau fireworks display encompasses all waters of Great South Bay off Cherry Grove, NY within a 600-foot radius of the fireworks barge located in approximate position 40°35′45″ N, 073°05′23″ W.

Atlantic Ocean (Off Sagaponack, NY)

The safety zone for the annual Treibeck's fireworks display encompasses all waters of the Atlantic Ocean off Sagaponack, NY within a 1200-foot radius of the fireworks barge located in approximate position 40°54′04″ N, 072°16′50″ W.

These safety zones will be enforced from 8 p.m. until 11 p.m. (e.s.t.) each day a barge with a “FIREWORKS—STAY AWAY” sign is posted in zone. However, vessels may enter, remain in, or transit through these safety zones during this time frame if authorized by the Captain of the Port Long Island Sound, or designated Coast Guard patrol personnel on scene, as provided for in 33 CFR 165.23. Enforcement of the safety zones will not prevent vessels from using affected bodies of water by simply transiting around the safety zones. Vessels are not precluded from mooring at or getting underway from commercial or recreational piers in the vicinity of any of the 17 safety zones. These safety zones provide for the safety of life on navigable waters during the events. Public notifications will be made prior to the events by all means to effect the widest publicity among the affected segments of the public, including publication in the local notice to mariners, marine information broadcasts, and facsimile.

Discussion of Comments and Changes

The Coast Guard received no letters commenting on the proposed rulemaking. No changes were made to this rulemaking.

Regulatory Evaluation

This rule is not a “significant regulatory action” under section 3(f) of Executive Order 12866, Regulatory Planning and Review, and does not require an assessment of potential costs and benefits under section 6(a)(3) of that Order. The Office of Management and Budget has not reviewed it under that Order. It is not “significant” under the regulatory policies and procedures of the Department of Transportation (DOT) (44 FR 11040, February 26, 1979).

We expect the economic impact of this rule to be so minimal that a full Regulatory Evaluation under paragraph 10e of the regulatory policies and procedures of DOT is unnecessary. The impact of this rule is expected to be minimal for the following reasons: Vessels may still transit through these safety zones except during the 45 minute period that a Coast Guard Patrol vessel is present; the safety zones are enforced during night hours when maritime traffic within the effected areas is the lightest; our historical experience with fireworks displays in these locations suggests that the maritime public is not burdened by the brief imposition of restrictions on vessel movement, as no objections have been lodged against previous safety zones established during fireworks displays in the same areas; vessels can moor and transit around the safety zones at all times. Advance notifications will also be made to the local maritime community by the Local Notice to Mariners. Marine information and facsimile broadcasts may also be made.

Small Entities

Under the Regulatory Flexibility Act (5 U.S.C. 601-612), we considered whether this rule would have a significant economic impact on a substantial number of small entities. The term “small entities” comprises small businesses, not-for-profit organizations that are independently owned and operated and are not dominant in their fields, and governmental jurisdictions with populations of less than 50,000.

The Coast Guard certifies under 5 U.S.C. 605(b) that this rule will not have a significant economic impact on a substantial number of small entities.

These safety zones will not have a significant economic impact on a substantial number of small entities for the following reasons: Vessel traffic can transit around all 17 safety zones during their enforcement period; vessels will not be precluded from getting underway, or mooring at, any piers or marinas currently located in the vicinity of the safety zones; the zones are only effective for a brief period; before the effective period of any zone, we will issue maritime advisories widely available to users of Long Island Sound, the Connecticut and Thames Rivers, Great South Bay, Shinnecock Bay, and the Atlantic Ocean off Connecticut and New York by local notice to mariners. Marine information and facsimile broadcasts may also be made.

Assistance for Small Entities

Under section 213(a) of the Small Business Regulatory Enforcement Fairness Act of 1996 (Public Law 104-121), we offered to assist small entities in understanding the rule so that they could better evaluate its effects on them and participate in the rulemaking process. However, we received no requests for assistance from small entities.

Collection of Information

This rule calls for no new collection of information under the Paperwork Reduction Act of 1995 (44 U.S.C. 3501-3520).

Federalism

We have analyzed this rule under Executive Order 13132, Federalism, and have determined that this rule does not have implications for federalism under that Order.

Unfunded Mandates Reform Act

The Unfunded Mandates Reform Act of 1995 (2 U.S.C. 1531-1538) governs the issuance of Federal regulations that require unfunded mandates. An unfunded mandate is a regulation that requires a State, local, or tribal government or the private sector to incur direct costs without the Federal Government's having first provided the funds to pay those costs. This rule will not impose an unfunded mandate.

Taking of Private Property

This rule will not effect a taking of private property or otherwise have taking implications under Executive Order 12630, Governmental Actions and Interference with Constitutionally Protected Property Rights.

Civil Justice Reform

This rule meets applicable standards in sections 3(a) and 3(b)(2) of Executive Order 12988, Civil Justice Reform, to minimize litigation, eliminate ambiguity, and reduce burden.

Protection of Children

We have analyzed this rule under Executive Order 13045, Protection of Children from Environmental Health Risks and Safety Risks. This rule is not an economically significant rule and does not concern an environmental risk to health or risk to safety that may disproportionately affect children.

Indian Tribal Governments

This rule does not have tribal implications under Executive Order 13175, Consultation and Coordination with Indian Tribal Governments. A rule with tribal implications has a substantial direct effect on one or more Indian tribe, on the relationship between the Federal Government and Indian tribes, or on the distribution of power and responsibilities between the Federal Government and Indian tribes.

Energy Effects

We have analyzed this rule under Executive Order 13211, Actions Concerning Regulations That Significantly Affect Energy Supply, Distribution, or Use. We have determined that it is not a “significant energy action” under that order because it is not a “significant regulatory action” under Executive Order 12866 and is not likely to have a significant adverse effect on the supply, distribution, or use of energy. It has not been designated by the Administrator of the Office of Information and Regulatory Affairs as a significant energy action. Therefore, it does not require a Statement of Energy Effects under Executive Order 13211.

Environment

We considered the environmental impact of this rule and concluded that, under figure 2-1, paragraph 34(g), of Commandant Instruction M16475.1C, this rule is categorically excluded from further environmental documentation. This rule fits paragraph 34(g) as it establishes a safety zone. A “Categorical Exclusion Determination” is available in the docket where indicated under ADDRESSES.

List of Subjects in 33 CFR Part 165

Harbors, Marine safety, Navigation (water), Reporting and recordkeeping requirements, Security measures, Waterways.

For the reasons discussed in the preamble, the Coast Guard amends 33 CFR part 165 as follows:

PART 165—REGULATED NAVIGATION AREAS AND LIMITED ACCESS AREAS

1. The authority citation for part 165 continues to read as follows:

Authority: 33 U.S.C. 1231; 50 U.S.C. 191, 33 CFR 1.05-1(g), 6.04-1, 6.04-6, 160.5; 49 CFR 1.46.

2. Add § 165.151 to read as follows:

§ 165.151 Safety Zones; Long Island Sound annual fireworks displays.

(a) Safety Zones. The following areas are designated safety zones. All coordinates references 1983 North American Datum (NAD83).

(1) Indian Harbor Yacht Club Fireworks Safety Zone. All waters of Long Island Sound off Greenwich CT, within a 800-foot radius of the fireworks barge located in approximate position 41°00 ′35″ N, 073°37′05″ W.

(2) City of Rowayton Fireworks Safety Zone. All waters of Long Island Sound in Sheffield Channel off of Ballast Reef within a 1000-foot radius of the fireworks barge located in approximate position 41°03′11″ N, 073°26′41″ W.

(3) The Yampol Family Fireworks Safety Zone. All waters of Long Island Sound off Cold Springs Harbor, Cove Neck New York within a 1200-foot radius of the fireworks barge located in approximate position 40°53′00″ N, 073°29′13″ W.

(4) Groton Long Point Yacht Club Fireworks Safety Zone. All waters of Long Island Sound off of Groton Long Point, Groton, CT, within a 600-foot radius of the fireworks barge in approximate position 41°18′05″ N, 072°02′08″ W.

(5) City of West Haven Fireworks Safety Zone. All waters of New Haven Harbor on Long Island Sound off Bradley Point within a 1200-foot radius of the fireworks barge in approximate position 41°15′07″ N, 072°57′26″ W.

(6) New Haven Festival Fireworks Safety Zone. All waters of New Haven Harbor on Long Island Sound within a 1200-foot radius of the fireworks barge in approximate position 40°17′31″ N, 072°54′48″ W.

(7) Madison Cultural Arts Fireworks Safety Zone. All the waters of Long Island Sound located off the City of Madison within an 800-foot radius of the fireworks barge in approximate position 41°16′10″ N, 072°36′30″ W.

(8) Arnold L. Chase Fireworks Safety Zone. All waters of Connecticut River within a 600 foot radius of the fireworks barge located in approximate position 41°15′56″ N, 072°21′49″ W, about 100-yards off Fenwick Pier.

(9) Saybrook Summer Pops Fireworks Safety Zone. All waters of Connecticut River within a 600-foot radius of the fireworks barge located in approximate position 41°17′35″ N, 072°21′20″ W.

(10) Mashantucket Pequot Fireworks Safety Zone. All waters of Thames River within a 1200-foot radius of the fireworks barges located in approximate positions: barge one, 41°21′01″ N, 072°05′25″ W, barge two, 41°20′58″ N, 072°05′23″ W, barge three, 41°20′53″ N, 072°05′21″ W, located off New London, CT.

(11) Harbor Day Fireworks Safety Zone. All waters of Thames River within a 600-foot radius of the fireworks barge located in approximate position 41°31′14″ N 072°04′44″ W, located off American Warf Marina, Norwich, CT.

(12) Riverfest Fireworks Safety Zone. All the waters of the Connecticut River within a 600-foot radius of the fireworks barge located in approximate position 41°45′34″ N, 072°39′37″ W.

(13) Southampton Fresh Air Home Fireworks Safety Zone. All the waters of Shinnecock Bay within a 600-foot radius of the fireworks barge located in approximate position 40°51′48″ N, 072°28′30″ W, off of Southampton, NY.

(14) T.E.L. Enterprises Fireworks Safety Zone. All the waters of Great South Bay within a 600-foot radius of the fireworks barge located in approximate position 40°41′17″ N, 073°00′20″ W, off of Davis Park, NY.

(15) Patchogue Chamber of Commerce Fireworks Safety Zone. All the waters of Great South Bay within an 800-foot radius of the fireworks barge located in approximate position 40°44′38″ N, 073°00′33″ W, off of Patchogue, NY.

(16) Fire Island Tourist Bureau Fireworks Safety Zone. All the waters of Great South Bay within a 600-foot radius of the fireworks barge located in approximate position 40°35′45″ N, 073°05′23″ W, off of Cherry Cove, NY.

(17) Treibeck's Party Fireworks Safety Zone. All the waters of the Atlantic Ocean within a 1200-foot radius of the fireworks barge located in approximate position 40°54′04″ N, 072°16′50″ W, off of Sagaponack, NY.

(b) Notification. Coast Guard Group/Marine Safety Office Long Island Sound and Coast Guard Group Moriches will cause notice of the activation of these safety zones to be made by all appropriate means to effect the widest publicity among the affected segments of the public, including publication in the local notice to mariners, marine information broadcasts, and facsimile. Fireworks barges used in these locations will also have a sign on their port and starboard side labeled “FIREWORKS—STAY AWAY” with the same dimensions listed previously.

(c) Enforcement period. Specific zones in this section will be enforced from 8 p.m. to 11 p.m. (e.s.t.) each day a barge with a “FIREWORKS—STAY AWAY” sign is posted in that zone.

(d) Regulations. Vessels may not enter, remain in, or transit through the safety zones in this section during the enforcement period unless authorized by the Captain of the Port Long Island Sound or designated Coast Guard patrol personnel on scene.

Dated: April 15, 2002.
J.J. Coccia,
Captain, U. S. Coast Guard, Captain of the Port, Long Island Sound.

[FR Doc. 02-11061 Filed 5-2-02; 8:45 am]

BILLING CODE 4910-15-P